ENVIRONMENTAL PROTECTION AGENCY

[EPA-HQ-OAR-2012-0103; FRL-11699-01-OMS]

Agency Information Collection Activities; Submission to the Office of Management and Budget for Review and Approval; Comment Request; Clean School Bus (CSB) Rebate Program (Renewal)

AGENCY: Environmental Protection Agency (EPA).

ACTION: Notice.

SUMMARY: The Environmental Protection Agency (EPA) has submitted an information collection request (ICR), Clean School Bus (CSB) Rebate Program (EPA ICR Number 2461.06, OMB Control Number 2060-0686) to the Office of Management and Budget (OMB) for review and approval in accordance with the Paperwork Reduction Act. This is a proposed extension of the ICR, which is currently approved through August 31, 2025, is being submitted now to incorporate elements currently approved under an emergency ICR for the Clean School Bus Rebate Program (EPA ICR Number 2780.01, OMB Control Number 2060-0750), expiring February 29, 2024. Public comments were previously requested via the Federal Register on November 3, 2023 during a 60-day comment period. This notice allows for an additional 30 days for public comments.

DATES: Comments must be submitted on or before March 29, 2024.

ADDRESSES: Submit your comments, referencing Docket ID No. EPA-HQ-OAR-2012-0103, to EPA online using www.regulations.gov (our preferred method), a-and-r-docket@epa.gov or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Timothy Thomas, Office of Transportation and Air Quality, (6406A), Environmental Protection Agency, 1200 Pennsylvania Ave. NW, Washington, DC 20460; telephone number: 734-214-4465; email address: thomas.tim.l@epa.gov.

SUPPLEMENTARY INFORMATION: This is a proposed extension of the ICR, which is currently approved through August 31, 2025. An agency may not conduct or sponsor and a person is not required to respond to a collection of information unless it displays a currently valid OMB control number. Public comments were previously requested via the Federal Register on November 3, 2023 during a 60-day comment period (88 FR 75587). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This supporting statement is for the Information Collection Request (ICR) renewal for the Clean School Bus (CSB) Rebates Program. The CSB Rebates Program currently collects information under the existing Diesel Emissions Reduction Act (DERA) and Clean School Bus (CSB) Rebate Program ICR (OMB Control Number 2060-0686) to ensure its successful administration and management of those programs. Additionally, an emergency ICR (EPA ICR No. 2780.01, OMB Control No. 2060-0750) was approved by OMB in September 2023 that included supplementary data necessary to adequately review and administer the CSB Rebate Program. This ICR renewal consolidates all components of the CSB Rebate Program collection.

EPA uses approved procedures and forms to collect necessary information to operate the CSB Rebate Program and has been providing these rebates since 2022. For each rebate program, EPA utilizes three online forms for the three phases of the rebate lifecycle: (1) Application Form for eligible entities to apply to a new rebate program, (2) Payment Request Form for selectees to submit order documentation and receive funds, and (3) Close Out Form for selectees to document completion of the rebate-eligible activity. In Fall 2023, EPA launched the 2023 CSB Rebate Application for applicants, and the 2022 CSB Rebate Close Out Form for existing 2022 program participants; EPA is currently preparing to launch the 2023 CSB Rebate Payment Request Form in early spring of 2024. EPA will subsequently launch the 2023 CSB Rebate Close Out Form, as well as each rebate form for any future rebate programs (e.g., 2024 CSB Rebate Program). The data collected in these forms are needed to operate the rebate program as authorized by Congress under the CSB statute.

School buses collectively travel over four billion miles each year, providing safe transportation to and from school for more than 25 million American children every day. The CSB Rebate Program funds the replacement of existing school buses with cleaner buses, the operation of which result in better air quality throughout the communities in which they operate.

Form Numbers: 5900-261, CSB Application; 5900-645 CSB Payment Request Form; 5900-646 CSB Close out Form

Respondents/affected entities: Those interested in applying for a rebate under EPA's CSB Program and include but are not limited to the following NAICS (North American Industry Classification System) codes: 484 Truck Transportation; 485 Transit and Ground Passenger Transportation; 4854 School and Employee Bus Transportation; 61111 Elementary and Secondary Schools; 61131 Colleges, Universities, and Professional Schools; 9211 Executive, Legislative, and Other Government Support; and 9221 Justice, Public Order, and Safety Activities.

Respondent's obligation to respond: Mandatory for CSB rebate recipients.

Estimated number of respondents: 2,400 (total).

Frequency of response: Once per year.

Total estimated burden: 19,763 hours (per year). Burden is defined at 5 CFR 1320.03(b).

Changes in the estimates: There is a decrease of 4,921 hours in the total estimated respondent burden compared with the combined burden of 24,684 hours currently approved by OMB under ICRs 2461.05 and 2780.01. These changes are due primarily to decreases in the respondent count for the Payment Request Form and Close Out Form. Those reductions are offset by increases in EPA's estimates for respondents' time burden for the completion of forms. Additionally, changes in technical labor requirements and BLS wage listings have increased the total cost of burden.

Courtney Kerwin,
Director, Information Engagement Division.

[FR Doc. 2024-01678 Filed 1-26-24; 8:45 am]

BILLING CODE 6560-50-P